NATIONAL CREDIT UNION ADMINISTRATION

Sunshine Act Meeting

Time and Date: 2 p.m., Thursday, May 20, 2004.

Place: Board Room, 7th Floor, Room 7047, 1775 Duke Street, Alexandria, VA 22314-3428.

Status: Open.

Matters to Be Considered: 1. Notice of Proposed Rule: Parts 721 and 724 of NCUA's Rules and Regulations, Health Savings Accounts.

2. Proposed Rule: Part 717 of NCUA's Rules and Regulations, Fair Credit Reporting—Disposal of Consumer Information.

FOR FURTHER INFORMATION CONTACT: Becky Baker, Secretary of the Board, Telephone: 703-518-6304.

Becky Baker,
Secretary of the Board.

[FR Doc. 04-11243 Filed 5-13-04; 3:17 pm]

BILLING CODE 7535-01-M